DEPARTMENT OF ENERGY

Federal Energy Regulatory Commission

[Docket No. EC04-89-000, et al.]

Erie Boulevard Hydropower, L.P., et al.; Electric Rate and Corporate Filings

April 5, 2004.

The following filings have been made with the Commission. The filings are listed in ascending order within each docket classification.

1. Erie Boulevard Hydropower, L.P. and Orion Power New York GP II, Inc.

[Docket No. EC04-89-000]

Take notice that on April 2, 2004, Erie Boulevard Hydropower, L.P. (Erie) and Orion Power New York GP II, Inc. (GP II), pursuant to section 203 of the Federal Power Act, filed with the Commission an application seeking an order authorizing an internal corporate reorganization.

Comment Date: April 23, 2004.

2. Michigan Electric Transmission Company, LLC

[Docket No. ER03-1341-001]

Take notice that on March 30, 2004, Michigan Electric Transmission Company, LLC, (METC) in compliance with the Commission's order issued November 17, 2003, in Docket No. ER03-1341-000, submitted schedules showing its actual weighted average cost of long-term debt for calendar year 2003.

Copies of this filing were served on all parties included on the Commission's official service list established in this proceeding.

Comment Date: April 20, 2004.

3. PJM Interconnection, L.L.C.

[Docket No. ER04-378-002]

Take notice that on March 30, 2004, PJM Interconnection, L.L.C. (PJM) submitted for filing an errata to its March 25, 2004, compliance filing in Docket No. ER04-378-001 to revise the designation of the substitute construction service agreement among PJM, U.S. General Services Administration, White Oak Federal Research Center, and Potomac Electric Power Company submitted in the compliance filing.

PJM states that copies of this filing were served upon persons designated on the official service list compiled by the Secretary in this proceeding and the parties to the agreements.

Comment Date: April 20, 2004.

4. Hartford Steam Company

[Docket No. ER04-582-001]

Take notice that on March 30, 2004, Hartford Steam Company (Hartford Steam) filed an amendment to its February 25, 2004, Application for Acceptance of Initial Rate Schedule and Certain Waivers and Blanket Authorizations. Hartford Steam requests an effective date of February 25, 2004.

Comment Date: April 20, 2004.

5. Southwest Power Pool, Inc.

[Docket No. ER04-658-001]

Take notice that on March 30, 2004, Southwest Power Pool, Inc. (SPP) filed certain corrections to the proposed changes to the SPP Open Access Transmission Tariff (Tariff) filed with the Commission on March 17, 2004, in Docket No. ER04-658-000. SPP seeks an effective date of April 1, 2004, for these changes.

SPP has served a copy of its transmittal letter on each of its Members and Customers, and on all affected state commissions.

Comment Date: April 20, 2004.

6. New Light Energy, LLC

[Docket No. ER04-683-000]

Take notice that on March 30, 2004, New Light Energy, LLC (New Light) petitioned the Commission for acceptance of New Light Rate Schedule FERC Electric Tariff Original Volume No. 1; the granting of certain blanket approvals, including the authority to sell electricity at market-based rates; and the waiver of certain Commission regulations. New Light states that it intends to engage in wholesale electric power and energy purchases and sales as a marketer. New Light further states that it is not in the business of generating or transmitting electric power.

Comment Date: April 20, 2004.

7. Capital Center Generating Company, LLC

[Docket No. ER04-684-000]

Take notice that on March 30, 2004, Capital Center Generating Company, LLC (CCGC), submitted a Notice of Cancellation of its Rate Schedule FERC No. 1. CCGC states that it proposes to cancel Rate Schedule FERC No. 1 because CCGC no longer operates or sells power from the 6.5 MW gas-fired generating facility that it owns. CCGC requests an effective date of March 26, 2004.

Comment Date: April 20, 2004.

8. WPS Resources Operating Companies

[Docket No. ER04-685-000]

Take notice that on March 30, 2004, WPS Resources Operating Companies, on behalf of Wisconsin Public Service Corporation and Upper Peninsula Power Company (collectively, WPS Resources), tendered for filing a notice of cancellation and a revised service agreement cover sheet (Cancellation Documents) to terminate a service agreement between WPS Resources and Consolidated Water Power Company under WPS Resources' open access transmission tariff, FERC Electric Tariff, First Revised Volume No. 1. WPS Resources requests an effective date of March 1, 2004.

WPS Resources states that copies of the filing were served upon CWP, the Public Service Commission of Wisconsin and the Michigan Public Service Commission.

Comment Date: April 20, 2004.

9. Aleph One, Inc.

[Docket No. ER04-686-000]

Take notice that on March 30, 2004, Aleph One, Inc. (Aleph One) petitioned the Commission to accept for filing Aleph One's FERC Electric Tariff No. 1 (Tariff No. 1) and grant Aleph One the blanket authority to make market-based sales of energy, capacity and ancillary services under its Tariff No. 1 and grant Aleph One such waivers and authorizations as have been granted by the Commission to other entities authorized to transact at market-based rates. Aleph One requests an effective date of March 31, 2004.

Comment Date: April 20, 2004.

10. PJM Interconnection, L.L.C.

[Docket No. ER04-687-000]

Take notice that on March 30, 2004, PJM Interconnection, L.L.C. (PJM) submitted revisions to the Reliability Assurance Agreement Among Load-Serving Entities in The PJM Control Area and PJM West Reliability Assurance Agreement Among Long-Serving Entities in the PJM West Region to make minor modifications to the timing for approval of changes in the forecast pool requirement under such agreements. PJM requests an effective date of May 30, 2004, for the proposed revisions.

PJM states that copies of the filing were served on all PJM members and the utility regulatory commissions in the PJM region.

Comment Date: April 20, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-835 Filed 4-14-04; 8:45 am]

BILLING CODE 6717-01-P